DEPARTMENT OF THE INTERIOR

Bureau of Land Management

[BLM_NV_FRN_MO#4500180231]

30-Day Extension of the Call for Nominations for the Avi Kwa Ame National Monument Advisory Committee

AGENCY: Bureau of Land Management, Interior.

ACTION: Notice of extension.

SUMMARY: The Bureau of Land Management (BLM) is seeking nominations for membership on the Avi Kwa Ame National Monument Advisory Committee (MAC). The MAC will advise the Secretary of the Interior through the BLM regarding the development of the management plan and management of the monument. This is a 30-day extension of the call for nominations published in the Federal Register on July 30, 2024.

DATES: The deadline for submission of nominations for membership on the MAC published July 30, 2024, at 89 FR 61132, is extended. Nominations for membership on the MAC must be received no later than September 30, 2024.

ADDRESSES: Nominations for the MAC should be sent to the BLM office listed in the FOR FURTHER INFORMATION CONTACT section of this notice.

FOR FURTHER INFORMATION CONTACT: Kirsten Cannon, Public Affairs Specialist, Southern Nevada District, 4701 North Torrey Pines, Las Vegas, Nevada 89130; phone: (702) 515-5057; email: k1cannon@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: Presidential Proclamation 10533 directs the Secretary of the Interior to establish and maintain an advisory committee under FACA (5 U.S.C. ch. 10) with the specific purpose of providing information and advice regarding the development of the management plan and management of the monument. The MAC is established in accordance with section 309 of the Federal Land Policy and Management Act, as amended (43 U.S.C. 1739). The BLM is subject to standards and procedures for the creation, operation, and termination of BLM resource advisory councils found at 43 CFR part 1784 subpart 1787 and the Federal Advisory Committee regulations found at 41 CFR part 102-3.

The MAC will consist of 15 representatives to be appointed by the Secretary of the Interior as follows:

1. Eight representatives of Tribal Nations with historical connection to the lands within the Monument;

2. A representative of developed outdoor recreation activities;

3. A representative of dispersed recreational activities, including hunting or wildlife organizations;

4. A representative of the conservation community;

5. A representative of the scientific community;

6. A representative of local business owners;

7. A representative of local governmental entities; and

8. A representative of local citizens.

Representatives will be appointed to the MAC to serve three-year staggered terms. Nominations should include a resume providing an adequate description of the nominee's qualifications, including information that would enable the Department of the Interior to make an informed decision regarding the membership requirements of the MAC and permit the Department of the Interior to contact a potential member. Nominees are strongly encouraged to include supporting letters from employers, associations, professional organizations, and/or other organizations that indicate support by a meaningful constituency for the nominee. Nominees should indicate any BLM permits, leases, or licenses that they hold personally or are held by their employer. Members of the MAC serve without compensation. However, while away from their homes or regular places of business, members engaged in MAC business may be allowed travel expenses, including per diem in lieu of subsistence, as authorized by 5 U.S.C. 5703, in the same manner as persons employed intermittently in Federal Government service.

The MAC will meet approximately two to four times annually, and at such other times as designated by the Designated Federal Officer.

Simultaneous with this notice, the BLM will post additional information for submitting nominations at https://www.blm.gov/get-involved/resource-advisory-council/near-you/nevada/avi-kwa-ame-mac.

The original call for nominations was published in the Federal Register (89 FR 61132) on July 30, 2024, with a 30-day nomination period ending August 29, 2024. This notice provides additional time for nominations (see DATES, above).

(Authority: 43 CFR 1784.4-1)

Bruce Sillitoe,
Las Vegas Field Office Manager.

[FR Doc. 2024-19391 Filed 8-28-24; 8:45 am]

BILLING CODE 4331-21-P